DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the Electric Power Program to the Office of Management and Budget (OMB) for review and a three-year extension under section 3507(h)(1) of the Paperwork Reduction Act of 1995 (Pub. L. 104-13) (44 U.S.C. 3501 et seq).

DATES: Comments must be filed by August 6, 2010. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by FAX (202-395-7285) or e-mail to Christine_J._Kymn@omb.eop.gov is recommended. The mailing address is 726 Jackson Place NW., Washington, DC 20503. The OMB DOE Desk Officer may be telephoned at (202) 395-4638. (A copy of your comments should also be provided to EIA's Statistics and Methods Group at the address below.)

FOR FURTHER INFORMATION CONTACT: Requests for additional information should be directed to Jason Worrall. To ensure receipt of the comments by the due date, submission by FAX (202-586-5271) or e-mail (Jason.worrall@eia.doe.gov) is also recommended. The mailing address is Statistics and Methods Group (EI-70), Forrestal Building, U.S. Department of Energy, 1000 Independence Ave., SW., Washington, DC 20585-0670. Mr. Worrall may be contacted by telephone at (202) 586-6075.

SUPPLEMENTARY INFORMATION: This section contains the following information about the energy information collection submitted to OMB for review: (1) The collection numbers and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; (8) estimate number of respondents; and (9) an estimate of the total annual reporting burden (i.e., the estimated number of likely respondents times the proposed frequency of response per year times the average hours per response).

1. Form EIA-411, “Coordinated Bulk Power Supply & Demand Program Report”.

Form EIA-826, “Monthly Electric Sales and Revenue with State Distributions Report”.

Form EIA-860, “Annual Electric Generator Report”.

Form EIA-860M, “Monthly Update to the Annual Electric Generator Report”.

Form EIA-861, “Annual Electric Power Industry Report”.

Form EIA-923, “Power Plant Operations Report.”

2. Energy Information Administration.

3. OMB Number 1905-0129.

4. Three-year extension requested with revisions.

5. Mandatory.

6. The Electric Power Surveys collect electric power information including capacity, generation, fuel consumption, fuel receipts, fuel stocks, and prices, along with financial information. Respondents include both regulated and unregulated entities that comprise the U.S. electric power industry. Electric power data collected are used by the Department of Energy for analysis and forecasting. Data are published in various EIA reports.

Below are additional proposed changes to the electric power surveys that have been made subsequent to the October 15, 2009 Federal Register Notice (74 FR 52955) requesting public comments. The proposed changes resulted from EIA's consideration of public comments and internal reviews of the electric power surveys.

The following proposed changes will not be made:

(a) EIA-923: Schedule 2. Cost and Quality of Fuel Receipts, Plant-Level: Collect receipts of uranium ownership transfers and enrichment services.

7. Business or other for-profit; State, local or tribal government; Federal Government.

8. 38958 responses per year, 13592 respondents.

9. 145429 hours.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 13(b) of the Federal Energy Administration Act of 1974, P.L. 93-275, codified at 15 U.S.C. 772(b).

Issued in Washington, DC, June 17, 2010.
Stephanie Brown,
Director, Statistics and Methods Group, Energy Information Administration.

[FR Doc. 2010-16442 Filed 7-6-10; 8:45 am]

BILLING CODE 6450-01-P